DEPARTMENT OF TRANSPORTATION

Federal Aviation Administration

[Docket No. FAA-2000-8046; Notice No. 00-12]

Exemption Reconsideration

AGENCY: Federal Aviation Administration, DOT.

ACTION: Reconsideration of certain exemptions.

SUMMARY: This notice contains a summary of existing exemptions that provide relief from regulations and permit the use of electronic records and electronic signatures. The Federal Aviation Administration (FAA) will review these exemptions to determine if they are appropriate candidates for supersedure because of recent legislative and internal actions.

DATES: Comments on this proposed action must be received by October 26, 2000.

ADDRESSES: Address your comments to the Docket Management System, U.S. Department of Transportation, Room Plaza 401, 400 Seventh Street, SW., Washington, DC 20590-0001. You must identify the docket number FAA-2000-8046 at the beginning of your comments, and you should submit two copies of your comments. If you wish to receive confirmation that FAA received your comments, include a self-addressed, stamped postcard.

You may also submit comments through the internet to http://dms.dot.gov. You may review the public docket containing comments to these proposed actions in person in the Dockets Office between 9:00 a.m. and 5:00 p.m., Monday through Friday, except Federal holidays. The Dockets Office is on the plaza level of the NASSIF Building at the Department of Transportation at the above address. Also, you may review public dockets on the Internet at http://dms.dot.gov.

FOR FURTHER INFORMATION CONTACT: Thomas Penland, Flight Standards Service (AFS-200), Federal Aviation Administration, 800 Independence Avenue, SW., Washington, DC 20591; Telephone (202) 267-3764.

SUPPLEMENTARY INFORMATION: In the past the FAA was contained by practical considerations to limit the reading of the language of certain regulations in a manner that was not conducive to the current electronic environment. The language of these regulations, while general, could only be implemented by requiring nonelectronic methods. This decision was necessary because of the limited technology available to the FAA at that time. In addition, the FAA did not have procedures in place to permit the agency to provide for the general acceptance of electronic data. Exemptions from certain regulations provided limited relief to permit the use of electronic means of compliance.

The FAA recently developed internal procedures to implement the requirements of the Government Paperwork Elimination Act (GPEA), Public Law 105-277, 44 U.S.C. 3504, which became law on October 21, 1998. The GPEA requires federal agencies to provide for (1) the option of electronic maintenance, submission, or disclosure of information, when practicable as a substitute for paper; and (2) the use and acceptance of electronic signatures, when practicable. The GPEA also states:

“Electronic records submitted or maintained in accordance with procedures developed under this Act, or electronic signatures or other forms of electronic authentication used in accordance with such procedures, shall not be denied legal effect, validity, or enforceability because such records are in electronic form.”

As part of its efforts to comply with the GPEA and based on Office of Management and Budget (OMB) guidance (65 FR 25508; May 2, 2000), the FAA has developed procedures that would permit the acceptance of electronic records and electronic signatures. In addition, the FAA not has the technical capability to operate in an electronic environment. Therefore, the FAA has undertaken a review of exemptions issued by the agency allowing the use of electronic signatures and records to determine if they are superseded by the provisions of the GPEA and acceptable under FAA's internal procedures.

This notice lists the exemptions that will be reviewed. Commenters, including the listed exemptions holders, should submit their comments and concerns to the FAA by the close of the comment period.

The purpose of this notice is to improve the public's awareness of, and participation in, this aspect of FAA's regulatory activities. Neither publication of this notice nor the inclusion or omission of information in the summary is intended to affect the legal status of any exemption.

Issued in Washington, DC on October 2, 2000.
Donald P. Byrne,
Assistant Chief Council for Regulations, AGC-200.

Summary of Existing Exemptions

Docket No.: 25336.

Petitioner: United Airlines, Inc. (United).

Section of 14 CFR Affected: 14 CFR 121.697(a)(3), (b), (c), and (d) and 121.709)b)(3).

Description of Relief: Permits United to use computerized signatures to satisfy the airworthiness release signature requirements of part 121 in lieu of physical signatures.

Exemption No. 5121F.

Docket No.: 27674.

Petitioner: International Business Machines Corporation Flight Operations (IBM Flight Operations).

Section of 14 CFR Affected: 14 CFR 43.9(a), 43.11(a)(3), 91.407(a)(2), 145.57(a).

Description of Relief: Permits IBM Flight Operations to use computerized personal identification codes in lieu of the physical signatures required to issue an airworthiness release and/or approval for return to service for the aircraft operated by IBM Flight Operations and the aeronautical products that IBM Flight Operations maintains for its repair station customers.

Exemption No. 6176A.

Docket No.: 28557.

Petitioner: Chromalloy Gas Turbine Corporation (Chromalloy).

Section of 14 CFR Affected: 14 CFR 43.9(a)(4), 43.11(a)(3), and 145.57(a).

Description of Relief: Permits Chromalloy and other persons holding return-to-service authority under the relevant, respective inspection procedures manuals (IPM) to use electronic signatures in lieu of physical signatures to satisfy the signature requirements of FAA Form 8130-3, Airworthiness Approval Tag.

Exemption No. 6513A.

Docket No.: 28445.

Petitioner: Aircraft Braking Systems Corporation (ABSC).

Section of 14 CFR Affected: 14 CFR 43.9(a)(4) and 43.11(a)(3), appendix B to part 43, and § 145.57(a).

Description of Relief: Permits ABSC to use computer-generated electronic signatures in lieu of physical signatures to satisfy approval for return-to-service signature requirements.

Exemption No. 6542B.

Docket No.: 28225.

Petitioner: Northwest Airlines, Inc. (Northwest).

Section of 14 CFR Affected: 14 CFR 121.709(b)(3).

Description of Relief: Permits Northwest to use electronic signatures generated by its SCEPTRE electronic recordkeeping system in lieu of a physical signature to satisfy the airworthiness release or aircraft log entry signature requirements of § 121.709(b)(3).

Exemption No. 6575A.

Docket No.: 28708.

Petitioner: Empire Airlines, Inc. (Empire).

Section of 14 CFR Affected: 14 CFR 43.9 and 121.709(b)(3).

Description of Relief: Permits Empire to use electronic signatures in lieu of physical signatures to satisfy airworthiness release or aircraft log entry signature requirements of § 43.9 for operations conducted under 14 CFR part 135 and § 121.709(b)(3) for operations conducted under part 121.

Exemption No. 6668B.

Docket No.: 29349.

Petitioner: Texas Aero Engine Services, L.L.C. (TAESL).

Section of 14 CFR Affected: 14 CFR 43.9(a)(4).

Description of Relief: Permits TAESL to use computerized personal identification codes in lieu of physical signatures required to issue airworthiness releases and approvals for return to service of aeronautical products it maintains for its repair station customers.

Exemption No. 6890.

Docket No.: 29419.

Petitioner: Aviation Component Service Center (ACSC).

Section of 14 CFR Affected: 14 CFR 43.9(a)(4), § 43.11(a)(3), appendix B to part 43, and § 145.57(a).

Description of Relief: Permits ACSC to use computer-generated electronic signatures in lieu of physical signatures to satisfy approval for return-to-service signature requirements.

Exemption No. 6926.

Docket No.: 28634.

Petitioner: Parker Hannifin Corporation (Parker).

Section of 14 CFR Affected: 14 CFR 43.9(a)(4), § 43.11(a)(3), appendix B to part 43, and § 145.57(a).

Description of Relief: Permits Parker to use computer-generated electronic signatures in lieu of physical signatures to satisfy the signature requirements of FAA Form 8130-3, Airworthiness Approval Tag, when the form is used as approval for return to service.

Exemption No. 7096.

Docket No.: 29422.

Petitioner: Gulfstream Aerospace Corporation (Gulfstream).

Section of 14 CFR Affected: 14 CFR 43.9(a)(4), 43.11(a)(3), appendix B to part 43, and 145.57(a).

Description of Relief: Permits Gulfstream qualified technicians and inspection personnel to use electronic signatures in lieu of physical signatures to satisfy approval for return-to-service signature requirements for the completion processes for Gulfstream aircraft.

Exemption No. 7163.

Docket No.: 17145.

Petitioner: United Airlines, Inc.

Section of 14 CFR Affected: 14 CFR 121.665 and 121.697(a) and (b).

Description of Relief: Permits United to use computerized load manifests that bear the printed name and position of the person responsible for loading the aircraft, instead of that person's signature.

Exemption No. 2466K.

Docket No.: 28545.

Petitoner: United Airlines, Inc.

Section of 14 CFR Affected: 14 CFR 121.135(a)(3).

Description of Relief: Permits United to use electronic digital technology to document the revision level in lieu of printing the last revision date on each page of the manual.

Exemption No. 6612A.

[FR Doc. 00-25694 Filed 10-5-00; 8:45 am]

BILLING CODE 4910-13-M